FARM CREDIT ADMINISTRATION

Privacy Act of 1974; System of Records

AGENCY: Farm Credit Administration.

ACTION: Notice of a Modified System of Records.

SUMMARY: Pursuant to the provisions of the Privacy Act of 1974, as amended, notice is hereby given that the Farm Credit Administration (FCA or Agency) is amending an existing system of records, FCA-1—Employee Attendance, Leave, and Payroll Records—FCA. The Employee Attendance, Leave, and Payroll Records—FCA system is used to prepare payroll, meet Government payroll recordkeeping and reporting requirements, prepare reports, and retrieve and supply payroll and leave information as required for Agency needs. The Agency is updating the notice to reflect changes to the system purpose, categories of individuals, include more details, and make administrative updates, as well as non-substantive changes, to conform to the SORN template requirements prescribed in the Office of Management and Budget (OMB) Circular No. A-108.

DATES: You may send written comments on or before April 9, 2020. FCA filed an amended System Report with Congress and the Office of Management and Budget on March 5, 2020. This notice will become applicable without further publication on April 20, 2020 unless modified by a subsequent notice to incorporate comments received from the public.

ADDRESSES: We offer a variety of methods for you to submit your comments. For accuracy and efficiency reasons, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA Website: http://www.fca.gov. Click inside the “I want to . . .” field, near the top of the page; select “comment on a pending regulation” from the dropdown menu; and click “Go.” This takes you to an electronic public comment form.

• Mail: David Grahn, Director, Office of Regulatory Policy, Farm Credit Administration, 1501 Farm Credit Drive, McLean, VA 22102-5090.

You may review copies of comments we receive at our office in McLean, Virginia, or from our website at http://www.fca.gov. Once you are in the website, click inside the “I want to . . .” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Autumn R. Agans, Privacy Act Officer, Farm Credit Administration, McLean, Virginia 22102-5090, (703) 883-4019, TTY (703) 883-4020.

SUPPLEMENTARY INFORMATION: This publication satisfies the requirement of the Privacy Act of 1974 that agencies publish a system of records notice in the Federal Register when there is a revision, change, or addition to the system of records. The substantive changes and modifications to the currently published version of FCA-1—Employee Attendance, Leave, and Payroll Records—FCA include:

1. Identifying the records in the system as unclassified.

2. Updating the system location to reflect the system's current location.

3. Updating the system managers to reflect the system's current owner.

4. Clarifying and expanding the system purpose to maintain files related to scheduling examinations of Farm Credit System (FCS) institutions by FCA employees, individuals who have been extended and accepted formal offers of employment by the Agency, and contractor personnel, and other similar activities consistent with statutory authorities.

5. Expanding and clarifying the categories of records and individuals to ensure they are consistent with the intended purpose.

6. Expanding and clarifying how records may be stored and retrieved.

7. Expanding and clarifying the routine uses for which information in the system may be disclosed.

8. Revising the retention and disposal section to reflect updated guidance from the National Archives and Records Administration.

9. Revising the safeguards section to reflect updated cybersecurity guidance and practices.

Additionally, non-substantive changes have been made to the “Record Source Categories” section.

The amended system of records is: FCA-1—Employee Attendance, Leave, and Payroll Records—FCA. As required by 5 U.S.C. 552a(r) of the Privacy Act, as amended, FCA sent notice of this proposed system of records to the Office of Management and Budget, the Committee on Oversight and Government Reform of the House of Representatives, and the Committee on Homeland Security and Governmental Affairs of the Senate. The notice is published in its entirety below.

SYSTEM NAME AND NUMBER:

FCA-1—Employee Attendance, Leave, and Payroll Records—FCA.

SECURITY CLASSIFICATION:

Unclassified.

SYSTEM LOCATION:

Office of Agency Services, Farm Credit Administration, 1501 Farm Credit Drive, McLean, VA 22102-5090.

SYSTEM MANAGER:

Director, Office of Agency Services, Farm Credit Administration, 1501 Farm Credit Drive, McLean, VA 22102-5090.

AUTHORITY FOR MAINTENANCE OF THE SYSTEM:

12 U.S.C. 2243, 2252.

PURPOSES OF THE SYSTEM:

Information in this record system is used to prepare payroll, to meet Government payroll recordkeeping and reporting requirements, prepare reports, and to retrieve and supply payroll and leave information as required for Agency needs. In addition to payroll, reporting, and related record keeping, information in the system may be used to identify and assign specific employees to specific tasks or work-related assignments, or to track activities and payroll costs associated with those tasks or assignments.

CATEGORIES OF INDIVIDUALS COVERED BY THE SYSTEM:

Current and former FCA employees, individuals who have been extended and accepted formal offers of employment by the Agency, and contractor personnel.

CATEGORIES OF RECORDS IN THE SYSTEM:

This system contains paper and electronic files containing payroll-related information for FCA employees, including but not limited to: Employee name, title, department, supervisor, employee number, Social Security number (SSN), rate and amount of pay, hours worked, tax and retirement deductions, leave bank records, including requests and approvals for leave, life insurance and health insurance deductions, savings allotments, savings bond and charity deductions, health savings accounts, other financial deductions, mailing addresses, and home addresses. The National Finance Center provides Agency payroll services.

Additionally, the system includes information used by the Office of Examination to identify and assign FCA examiners and individuals who have been extended and accepted formal offers of employment by the Agency to specific examinations of FCS institutions. Information includes, but is not limited to: Employee name, supervisor, approved leave and related information pertaining to availability for a specific examination, institution to which the employee is assigned as part of the examination team, and general information about the employee's specific area of expertise or specialty. Sensitive information, such as Social Security number, leave types, balances, and similar information is not used for scheduling purposes.

RECORD SOURCE CATEGORIES:

Information in this system of records is obtained from the individual to whom it applies or from information supplied by Agency officials.

ROUTINE USES OF RECORDS MAINTAINED IN THE SYSTEM, INCLUDING CATEGORIES OF USERS AND PURPOSES OF SUCH USES:

See the “General Statement of Routine Uses” (64 FR 8175). The information collected in the system will be used in a manner that is compatible with the purposes for which the information has been collected and, in addition to the applicable general routine uses, may be disclosed for the following purposes:

(1) We may disclose information in this system of records to other Government agencies, commercial or credit organizations, or to prospective employers to verify employment.

(2) We may disclose information in this system of records to Federal, State, and local taxing authorities concerning compensation to employees or to contractors; to the Office of Personnel Management, Department of the Treasury, Department of Labor, and other Federal agencies concerning pay, benefits, and retirement of employees; to Federal employees' health benefits carriers concerning health insurance of employees; to financial organizations concerning employee savings account allotments and net pay to checking accounts; to State human resource offices administering unemployment compensation programs; to educational and training organizations concerning employee qualifications and identity for specific courses; and to heirs, executors, and legal representatives of beneficiaries.

(3) We may disclose information in this system of records to the Office of Child Support Enforcement, Administration for Children and Families, Department of Health and Human Services, Federal Parent Locator System (FPLS), and Federal Tax Offset System for use in locating individuals and identifying their income sources, to establish paternity, establish and modify orders of support, and for enforcement actions.

(4) We may disclose information in this system of records to the Office of Child Support Enforcement for release to the Social Security Administration for verifying Social Security numbers in connection with the operation of the FPLS by the Office of Child Support Enforcement.

(5) We may disclose information in this system of records to the Office of Child Support Enforcement for release to the Department of the Treasury to administer the Earned Income Tax Credit Program (section 32, Internal Revenue Code of 1986) and to verify a claim with respect to employment in a tax return.

Disclosure to consumer reporting agencies:

We may disclose information from this system, under 5 U.S.C. 552a(b)(12), to consumer reporting agencies as defined in the Fair Credit Reporting Act, 15 U.S.C. 1681a(f), or the Federal Claims Collection Act of 1966, as amended, 31 U.S.C. 3701(a)(3), in accordance with 31 U.S.C. 3711(f).

POLICIES AND PRACTICES FOR STORAGE OF RECORDS:

Records are maintained in a computerized database.

POLICIES AND PRACTICES FOR RETRIEVAL OF RECORDS:

Records are retrieved by name, Social Security number, or some combination thereof.

POLICIES AND PROCEDURES FOR RETENTION AND DISPOSAL OF RECORDS:

Records are retained in accordance with the National Archives and Records Administration's General Records Schedule 2.4: Employee Compensation and Benefits Records and General Records Schedule 2.2: Employee Management Records, and with the FCA Comprehensive Records Schedule.

ADMINSITRATIVE, TECHNICAL, AND PHYSICAL SAFEGUARDS:

FCA implements multiple layers of security to ensure access to records is limited to those with need-to-know in support of their official duties. Records are physically safeguarded in a secured environment using locked file rooms, file cabinets, or locked offices and other physical safeguards. Computerized records are safeguarded through use of user roles, passwords, firewalls, encryption, and other information technology security measures.

RECORD ACCESS PROCEDURES:

To obtain a record, contact: Privacy Act Officer, Farm Credit Administration, 1501 Farm Credit Drive, McLean, VA 22102-5090, as provided in 12 CFR part 603.

CONTESTING RECORD PROCEDURES:

Direct requests for amendments to a record to: Privacy Act Officer, Farm Credit Administration, 1501 Farm Credit Drive, McLean, VA 22102-5090, as provided in 12 CFR part 603.

NOTIFICATION PROCEDURE:

Address inquiries about this system of records to: Privacy Act Officer, Farm Credit Administration, McLean, VA 22102-5090.

EXEMPTIONS PROMULGATED FOR THE SYSTEM:

None.

HISTORY:

Federal Register Vol. 64, No. 100/Tuesday, May 25, 1999 page 21875.

Vol. 70, No. 183/Thursday, September 22, 2005, page 55621.

Dated: March 5, 2020.
Dale Aultman,
Secretary, Farm Credit Administration Board.

[FR Doc. 2020-04884 Filed 3-9-20; 8:45 am]

BILLING CODE 6705-01-P